RAILROAD RETIREMENT BOARD

20 CFR Ch. II

Semiannual Agenda of Regulations Under Development or Review

AGENCY: Railroad Retirement Board.

ACTION: Semiannual regulatory agenda.

SUMMARY: This agenda contains a list of regulations that the Board is developing or proposes to develop in the next 12 months and regulations that are scheduled to be reviewed in that period.

ADDRESSES: 844 North Rush Street, Chicago, IL 60611-1275.

FOR FURTHER INFORMATION CONTACT: Marguerite P. Dadabo, Assistant General Counsel, Office of General Counsel, Railroad Retirement Board, (312) 751-4945, Fax (312) 751-7102, TDD (312) 751-4701.

SUPPLEMENTARY INFORMATION: Regulations that are routine in nature or which pertain solely to internal Agency management have not been included in the agenda.

Dated: July 23, 2019.
By Authority of the Board.
Stephanie Hillyard,
Secretary to the Board.

Railroad Retirement Board—Long-Term Actions
Sequence No. | Title | Regulation Identifier No.
342 | Proposed Amendment to Update the Titles of Various Executive Committee Members Whose Office Titles Have Changed (Section 610 Review) | 3220-AB72
343 | Enforcement of Nondiscrimination on the Basis of Handicap in Programs or Activities Conducted by the Railroad Retirement Board (Section 610 Review) | 3220-AB73

RAILROAD RETIREMENT BOARD (RRB)

Long-Term Actions

342. Proposed Amendment To Update the Titles of Various Executive Committee Members Whose Office Titles Have Changed (Section 610 Review)

E.O. 13771 Designation: Fully or Partially Exempt.

Legal Authority: 45 U.S.C. 231f; 45 U.S.C. 362

Abstract: The Railroad Retirement Board proposes to amend its regulations to update 20 CFR 375.5(b), which will change the titles of various Executive Committee members whose office titles have changed. The Railroad Retirement Board (Board) proposes to amend its regulations governing the Board's policy on delegation of authority in case of national emergency. The regulation to be amended is contained in section 375.5. In section 375.5(b) of the Board's regulations, the Board proposes to remove the language that refers to the “Director of Supply and Service” and the “Regional Directors,” to update the title of Director of Administration to “Director of Administration/COOP Executive,” and to add the positions of “Chief Financial Officer” and “Director of Field Service” to the delegation of authority chain. Finally, the delegation of authority chain will be updated to reflect the addition of the updated titles and the removal of outdated positions.

Timetable:

Action | Date | FR Cite
Proposed Rule | 10/00/21

Regulatory Flexibility Analysis Required: No.

Agency Contact: Marguerite P. Dadabo, Assistant General Counsel, Railroad Retirement Board, Office of General Counsel, 844 North Rush Street, Room 811, Chicago, IL 60611, Phone: 312 751-4945, TDD Phone: 312 751-4701, Fax: 312 751-7102.

RIN: 3220-AB72

343. Enforcement of Nondiscrimination on the Basis of Handicap in Programs or Activities Conducted by the Railroad Retirement Board (Section 610 Review)

E.O. 13771 Designation: Fully or Partially Exempt.

Legal Authority: 29 U.S.C. 794

Abstract: We propose to amend our regulations at 20 CFR part 365 to update terminology to refer to individuals with a disability. This amendment replaces the term “handicap” with the term “disability” to match the statutory language in the Rehabilitation Act Amendment of 1992, Public Law 102-569, 106 Stat. 4344.

Timetable:

Action | Date | FR Cite
Proposed Rule | 10/00/21

Regulatory Flexibility Analysis Required: No.

Agency Contact: Marguerite P. Dadabo, Assistant General Counsel, Railroad Retirement Board, Office of General Counsel, 844 North Rush Street, Room 811, Chicago, IL 60611, Phone: 312 751-4945, TDD Phone: 312 751-4701, Fax: 312 751-7102.

RIN: 3220-AB73

[FR Doc. 2019-26575 Filed 12-23-19; 8:45 am]

BILLING CODE 7905-01-P